DEPARTMENT OF COMMERCE

Patent and Trademark Office

Agency Information Collection Activities; Submission to the Office of Management and Budget (OMB) for Review and Approval; Comment Request; Generic Clearance for the Collection of Qualitative Feedback on Agency Service Delivery

AGENCY: United States Patent and Trademark Office, Department of Commerce.

ACTION: Notice of information collection; request for comment.

SUMMARY: The United States Patent and Trademark Office (USPTO), as required by the Paperwork Reduction Act of 1995, invites comments on the extension and revision of an existing information collection: 0651-0080 (Generic Clearance for the Collection of Qualitative Feedback on Agency Service Delivery). The purpose of this notice is to allow 60 days for public comment preceding submission of the information collection to OMB.

DATES: To ensure consideration, comments regarding this information collection must be received on or before August 16, 2024.

ADDRESSES: Interested persons are invited to submit written comments by any of the following methods. Do not submit Confidential Business Information or otherwise sensitive or protected information.

• Email: InformationCollection@uspto.gov. Include “0651-0080 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Request for additional information should be directed to Justin Isaac, Office of the Chief Adminsitrative Officer, United States Patent and Trademark Office, P.O. Box 1450, Alexandria, VA 22313-1450; by telephone at 571-272-7392; or by email at justin.isaac@uspto.gov with “0651-0080 comment” in the subject line. Additional information about this information collection is also available at http://www.reginfo.gov under “Information Collection Review.”

SUPPLEMENTARY INFORMATION:

I. Abstract

Executive Order 12862 (Setting Customer Service Standards) directs Federal agencies to provide services to the public that matches or exceeds the best services available in the private sector.¹ In order to work continuously to ensure that its programs are effective and meet its customers' needs, the United States Patent and Trademark Office (USPTO) uses this generic clearance to collect qualitative feedback on its service delivery. Qualitative feedback refers to information that provides useful insights on perceptions and opinions, but is not in the form of statistical surveys which yield quantitative results that can be generalized to the population of study.

¹ https://www.archives.gov/files/federal-register/executive-orders/pdf/12862.pdf.

The USPTO collects, analyzes, and interprets the information gathered to identify strengths and weaknesses of current services. Based on feedback received, the USPTO will identify operational changes needed to improve programs and services. The solicitation of such feedback will target areas such as: timeliness, appropriateness, accuracy of information, courtesy, efficiency of service delivery, and resolution of issues with service delivery.

Collecting this feedback provides the USPTO with information on customer satisfaction. This feedback provides for ongoing, collaborative, and actionable communication between the USPTO and its customers and stakeholders. Additionally, it allows the USPTO to gather feedback in an efficient and timely manner. The information collected from external customers and stakeholders ensures that users have an opportunity to convey their experience with USPTO programs. This information collection also provides insights into customer or stakeholder perceptions, experiences, and expectations, which allows the USPTO to focus its attention on areas where communication, training, or changes in operations may be necessary.

This information collection covers a variety of methods used by USPTO to obtain qualitative feedback from the public. The estimated number of annual responses and burden hours being requested are based on the number of information collections the USPTO expects to conduct over the period of this clearance. Each specific request for clearance under this generic information collection includes estimates for the following information: respondent types, number of respondents, number of responses, time per response, burden hours, and associated costs.

II. Method of Collection

The methods of collection include, but are not limited to, in-person surveys, telephone interviews, questionnaires, mail and email surveys, web-based products, focus groups, and comment cards. Depending upon the particular collection, these items may be completed electronically, in person, by phone, or by mailing items to the USPTO.

III. Data

OMB Control Number: 0651-0080.

Forms: None.

Type of Review: Extension and revision of a currently approved information collection.

Affected Public: Individuals and households.

Respondent's Obligation: Voluntary.

Estimated Number of Annual Respondents: 150,000 respondents.

Estimated Number of Annual Responses: 150,000 responses.

Frequency: On occasion.

Estimated Time per Response: The USPTO estimates that the responses in this information collection will take the public approximately 10 minutes (0.17 hours) to complete. This includes the time to gather the necessary information, create the document, and submit the completed item to the USPTO.

Estimated Total Annual Respondent Burden Hours: 25,500 hours.

Estimated Total Annual Respondent Hourly Cost Burden: $6,429,060.

With each individual survey instrument/evaluation form submitted to OMB, specific burden estimates will be provided. These estimates will include the total number of respondents, frequency of collection, average minutes/hours per response, and total burden hours.

² In this information collection the USPTO uses an average of the rates for intellectual property (IP) attorneys and pro se applicants. The wage rate for IP attorneys is taken from the Report of the Economic Survey, published by the Committee on Economics of Legal Practice of the American Intellectual Property Law Association (AIPLA); pg. F-41. The USPTO uses the average billing rate for intellectual property work in all firms which is $447 per hour (https://www.aipla.org/home/news-publications/economic-survey). The wage rate for pro se applicants is taken from the mean hourly wage ($57.24) for physical scientists according to the data from the Bureau of Labor Statistics' Occupational Employment and Wage Statistics (occupational code 19-2099); https://www.bls.gov/oes/current/oes192099.htm#:~:text=19%2D2099%20Physical%20Scientists%2C%20All%20Other.

Table 1—Total Burden Hours and Hourly Costs to Individual and Household Respondents
Item No. | Item | Estimated annual respondent | Responses per respondent | Estimated annual responses | Estimated time for response (hours) | Estimated burden (hour/year) | Rate ² ($/hour) | Estimated annual respondent cost burden
|  | (a) | (b) | (a) × (b) = (c) | (d) | (c) × (d) = (e) | (f) | (e) × (f) = (g)
1 | Respondents | 150,000 | 1 | 150,000 | 0.17 | 25,500 | $252.12 | $6,429,060

Estimated Total Annual Respondent Non-Hourly Cost Burden: $0. There are no capital start-up, maintenance costs, recordkeeping costs, filing fees, or postage costs associated with this information collection.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2024-13217 Filed 6-14-24; 8:45 am]

BILLING CODE 3510-16-P